SMALL BUSINESS ADMINISTRATION

[Disaster Declaration #15929 and #15930; Iowa Disaster Number IA-00087]

Presidential Declaration Amendment of a Major Disaster for Public Assistance Only for the State of Iowa

AGENCY: U.S. Small Business Administration.

ACTION: Amendment 2.

SUMMARY: This is an amendment of the Presidential declaration of a major disaster for Public Assistance Only for the State of Iowa (FEMA-4421-DR), dated 04/05/2019.

Incident: Severe Storms and Flooding.

Incident Period: 03/12/2019 and continuing.

DATES: Issued on 04/05/2019.

Physical Loan Application Deadline Date: 06/04/2019.

Economic Injury (EIDL) Loan Application Deadline Date: 01/06/2020.

ADDRESSES: Submit completed loan applications to: U.S. Small Business Administration, Processing And Disbursement Center, 14925 Kingsport Road, Fort Worth, TX 76155.

FOR FURTHER INFORMATION CONTACT: A Escobar, Office of Disaster Assistance, U.S. Small Business Administration, 409 3rd Street SW, Suite 6050, Washington, DC 20416, (202) 205-6734.

SUPPLEMENTARY INFORMATION: The notice of the President's major disaster declaration for Private Non-Profit organizations in the State of Iowa, dated 04/05/2019, is hereby amended to include the following areas as adversely affected by the disaster.

Primary Counties: Allamakee, Audubon, Bremer, Clay, Decatur, Hancock, Hardin, Howard, Humboldt, Iowa, Montgomery, Pocahontas, Sac

All other information in the original declaration remains unchanged.

(Catalog of Federal Domestic Assistance Number 59008)

James Rivera,
Associate Administrator for Disaster Assistance.

[FR Doc. 2019-10332 Filed 5-17-19; 8:45 am]

BILLING CODE 8025-01-P